DEPARTMENT OF AGRICULTURE

Agricultural Marketing Service

[Doc. No. AMS-LPS-17-0030]

Request for Extension of a Currently Approved Information Collection

AGENCY: Agricultural Marketing Service, USDA.

ACTION: Notice; request for comments.

SUMMARY: In accordance with the Paperwork Reduction Act of 1995, this notice announces the U. S. Department of Agriculture (USDA) Agricultural Marketing Service's (AMS) intent to request approval from the Office of Management and Budget (OMB) for an extension of the currently approved information collection used to compile and generate the Federally Inspected Estimated Daily Slaughter Report (OMB 0581-0050).

DATES: Comments must be received by September 18, 2017.

ADDRESSES: Comments should be submitted electronically at http://www.regulations.gov. Comments may also be submitted to Sam Jones-Ellard, Assistant to the Director, Livestock, Poultry, and Grain Market News Division, Livestock, Poultry, and Seed Program, Agricultural Marketing Service, USDA; Room 2619-S; Stop 0252; 1400 Independence Avenue SW., Washington, DC 20250-0252. All comments should reference docket number AMS-LPS-17-0030, the date of submission, and the page number of this issue of the Federal Register. All comments received will be posted without change, including any personal information provided, and will be made available for public inspection at the above physical address during regular business hours.

FOR FURTHER INFORMATION CONTACT: Sam Jones-Ellard, Assistant to the Director, Livestock, Poultry, and Grain Market News Division, AMS, USDA, by telephone at (202) 720-6231, or via email at Samuel.Jones@ams.usda.gov.

SUPPLEMENTARY INFORMATION: Title: Plan for Estimating Daily Livestock Slaughter Under Federal Inspection.

OMB Number: 0581-0050.

Expiration Date of Approval: 01-31-2018.

Type of Request: Extension of a currently approved information collection.

Abstract: The Agricultural Marketing Act of 1946 (7 U.S.C. 1621-1627) section 203(g) directs and authorizes the collection and dissemination of marketing information including adequate outlook information, on a market area basis, for the purpose of anticipating and meeting consumer requirements, aiding in the maintenance of farm income, and to bring about a balance between production and utilization.

The USDA issues a Market News report estimating daily livestock slaughter under Federal inspection. This report is compiled by AMS on a voluntary basis in cooperation with the livestock and meat industry. Market News reporting must be timely, accurate, and continuous if it is to be useful to producers, processors, and the trade in general. The daily livestock slaughter estimates are provided at the request of industry and are used to make production and marketing decisions.

The Estimated Daily Livestock Slaughter Under Federal Inspection Report is used by a wide range of industry contacts, including packers, processors, producers, brokers, and retailers of meat and meat products. The livestock and meat industry requested that USDA issue slaughter estimates (daily and weekly), by species, for cattle, calves, hogs, and sheep to assist them in making immediate production and marketing decisions and as a guide to the volume of meat in the marketing channel. The information requested from respondents includes their estimation of the current day's slaughter at their plant(s) and the actual slaughter for the previous day. Also, the Government is a large purchaser of meat and related products and this report assists other Government agencies in providing timely information on the quantity of meat entering the processing channels.

The information must be collected, compiled, and disseminated by an impartial third-party, in a manner which protects the confidentiality of the reporting entity. AMS is in the best position to provide this service.

Estimate of Burden: Public reporting burden for this collection of information is estimated to average .0333 hours per response.

Respondents: Business or other for-profit entities, individuals or households, farms, and the Federal Government.

Estimated Number of Respondents: 58 respondents.

Estimated Number of Responses per Respondent: 260 responses per respondent.

Estimated Number of Responses: 15,080 responses.

Estimated Total Annual Burden on Respondents: 502 hours.

Comments are invited on: (1) Whether the proposed collection of information is necessary for the proper performance of the functions of AMS, including whether the information will have practical utility; (2) the accuracy of AMS estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: July 14, 2017.
Bruce Summers,
Acting Administrator, Agricultural Marketing Service.

[FR Doc. 2017-15129 Filed 7-18-17; 8:45 am]

BILLING CODE 3410-02-P